DEPARTMENT OF COMMERCE

National Oceanic and Atmospheric Administration

RIN 0648-XE151

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two-day meeting of its Reef Fish Advisory Panel.

DATES: The meeting will be held on Wednesday and Thursday, September 16-17, 2015, starting at 8:30 a.m. each day and will adjourn at 12 noon on Thursday.

ADDRESSES: The meeting will be held in the conference room at the Gulf of Mexico Fishery Management Council's office; see below for address.

Council address: Gulf of Mexico Fishery Management Council, 2203 N. Lois Avenue, Suite 1100, Tampa, FL 33607; telephone: (813) 348-1630.

FOR FURTHER INFORMATION CONTACT: Dr. Carrie Simmons, Executive Deputy Director, Gulf of Mexico Fishery Management Council; carrie.simmons@gulfcouncil.org, telephone: (813) 348-1630.

SUPPLEMENTARY INFORMATION:

Agenda

The meeting will begin with introductions, and will hold elections for a new chair and vice-chair. The Advisory Panel (AP) will then adopt the agenda, review and approve minutes from the July 29, 2014 Reef Fish AP meeting and July 30, 2014 Red Snapper AP meeting. Council staff will review the scope of work commissioned for this advisory panel. The AP will review and provide recommendations on Public Hearing Draft Amendment 39—Regional Management of Recreational Red Snapper, and recent stock assessments on red grouper and gray triggerfish. The AP will also review and discuss Public Hearing Draft—Joint Amendment to Require Electronic Reporting for Charter Vessels and Headboats; an Options Paper on a Framework Action setting the gag recreational season and gag and black grouper minimum size limits; review of a Draft Framework Action to modify gear restrictions for yellowtail snapper; a Draft Options Paper on an amendment defining west Florida's shelf hogfish stock, and setting the annual catch limits (ACL) and status determination criteria; a Draft Options Paper to modify mutton snapper ACLs and establish commercial and recreational management measures. Lastly, the Advisory Panel will review Coral Habitat Areas of Particular Concern (HAPC), a document on South Florida Management Issues, and SEDAR schedule; and will discuss Other Business, if any.

—Meeting Adjourns—

The Agenda is subject to change, and the latest version along with other meeting materials will be posted on the Council's file server. To access the file server, the URL is https://public.gulfcouncil.org:5001/webman/index.cgi, or go to the Council's Web site and click on the FTP link in the lower left of the Council Web site http://www.gulfcouncil.org). The username and password are both “gulfguest”. Click on the “Library Folder”, then scroll down to “Reef Fish AP meeting 09-2015”.

The meeting will be webcast over the internet. A link to the webcast will be available on the Council's Web site, http://www.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: August 26, 2015.
Tracey L. Thompson,
Acting Deputy Director, Office of Sustainable Fisheries, National Marine Fisheries Service.

[FR Doc. 2015-21448 Filed 8-28-15; 8:45 am]

BILLING CODE 3510-22-P